DEPARTMENT OF STATE

[Public Notice 8369]

International Joint Commission: Public Comment on a Proposal for Lake Ontario and St. Lawrence River Regulation

The International Joint Commission (IJC) is inviting the public to comment on a proposal for managing the water levels and flows in Lake Ontario and the St. Lawrence River that will continue to contribute to the economic health of communities throughout the basin while improving the long-term ecological health of Lake Ontario and the upper St. Lawrence River.

Since 1960, the IJC has managed the flow of water at the Moses-Saunders hydropower dam, located on the St Lawrence River between Cornwall, Ontario and Massena, New York. The management of water flows influences water levels on Lake Ontario and in the St Lawrence River as far downstream as Lake St. Pierre. Although water levels and flows are primarily determined by precipitation, snowpack and storms, water flow management has provided substantial benefits to the region. These include reducing flooding and erosion on the Lake Ontario shoreline, reducing flooding downstream, and providing more favorable conditions on the lake and river for water intakes, recreational boating, commercial navigation and hydroelectric power production.

The IJC is proposing to manage water levels with fewer negative environmental impacts on Lake Ontario and the upper St. Lawrence River. Extensive research shows the policies developed in the 1950s have restricted water levels to the extent of degrading coastal wetlands on Lake Ontario and the upper St. Lawrence River. This degradation impacts the health of native plants, birds, fish and other animals. While continuing to reduce extreme high and low water levels, the water management proposal would allow more natural water level patterns on Lake Ontario while retaining benefits downstream. This is expected to improve wetland health on Lake Ontario and the upper St. Lawrence River on a scale larger than any restoration actions taken to date.

Commissioners invite the public to attend and present comments at public hearings that will be held the following dates and locations:

Public Hearing Schedule—July, 2013
Sunday 14 6:00pm-9:00 pm | Monday 15 6:00 pm-9:00 pm | Tuesday 16 6:00 pm-9:00 pm | Wednesday 17 6:00 pm-9:00 pm | Thursday 18 6:00 pm-9:00 pm | Friday 19 1:00 pm-3:00 pm
Lockport, NY, Cornell Cooperative Extension, 4-H Training Center 4487 Lake Avenue | Jordan, ON, Ramada Beacon Harbour-side Hotel & Suites, Harbour Sanderson Rm, 2793 Beacon Blvd | Williamson, NY, Williamson Central High School, Auditorium, 5891 Route 21 | Alexandria Bay, NY, Bonnie Castle, 31 Holland St | Montreal, QC, Best Western Plus Hotel Europa, Mont Blanc Room, 1240 Drummond St | Cornwall, ON, Ramada Inn, St. Lawrence West Room, 805 Brookdale Ave.

People attending the public hearings who wish to provide oral comments will need to register to speak at the hearing. Registration will be available on-site starting 30 minutes before the start time of each hearing. Speakers are asked to limit prepared comments to three minutes so as many as possible have an opportunity to speak.

Commissioners are also holding technical hearings. Participation is by invitation of the Commission. Members of the public may attend the technical hearings as observers.

Technical Hearing Schedule—July 2013
Monday 15, 12:30 pm-3:00 pm | Tuesday 16, 10:00 am-3:00 pm | Wednesday 17, 10:00 am-12:30 pm | Thursday 18, 1:00 pm-4:00 pm | Friday 19, 10:00 am-11:30 am
Toronto, ON, Courtyard Marriott, 475 Yong Street | Rochester, NY, Hyatt Regency, Ballroom AB, 125 E. Main St | Oswego, NY, Lake Ontario Event and Conference Center, 70 East 1st Street | Montreal, QC, Best Western Plus Hotel Europa, Mont Blanc Room, 1240 Drummond St | Cornwall Island, Tri-District Elders Lodge, Main Hall, 12 Community Centre Rd.

Written comments and other documents may be submitted at the public information sessions, through the Comments section of ijc.org/en_/losl or by regular mail to either of the following addresses:

International Joint Commission Secretary, U.S. Section, 2000 L Street NW., Suite #615, Washington, DC 20440

International Joint Commission Secretary, Canadian Section, 234 Laurier Avenue W., 22nd Floor, Ottawa, ON K1P 6K6

Comments received by August 30, 2013 will be included in the record of public comment. The International Joint Commission was established under the Boundary Waters Treaty of 1909 to help the United States and Canada prevent and resolve disputes over the use of the waters the two countries share. Its responsibilities include considering applications for projects that affect the natural levels and flows of boundary waters. For more information, visit the Commission's Web site at www.ijc.org.

Dated: June 28, 2013.
Charles A. Lawson,
Secretary, U.S. Section, International Joint Commission, Department of State.

[FR Doc. 2013-16022 Filed 7-2-13; 8:45 am]

BILLING CODE 4710-14-P